DEPARTMENT OF COMMERCE

Bureau of Industry and Security

Action Affecting Export Privileges; Wen Enterprises; Ning Wen; Hailan Lin; Beijing Rich Linscience Electronics Company; Ruo Ling Wang

In the matters of Wen Enterprises, 402 Wild Oak Drive, Manitowoc, WI 54220; and, Ning Wen, 402 Wild Oak Drive, Manitowoc, WI 54220; and, Hailin Lin, 402 Wild Oak Drive, Manitowoc, WI 54220; and, Beijing Rich Linscience Electronics Company, No. 2 Zhong Guan Cun South Avenue, Cyber Mode Room 1001, Haidian District, Beijing, China 100086, Respondents, and, Ruo Ling Wang, No. 2 Zhong Guan Cun South Avenue, Cyber Mode Room 1001, Haidian District, Beijing, China 100086, Related Party.

Wen Enterprises (“WE”), Ning Wen (“Wen”), Hailin Lin (“Lin”), Beijing Rich Linscience Electronics Company (“BRLE”), and Ruo Ling Wang (“Wang”).

Order Renewing Temporary Denial Order and Adding a Related Party

Pursuant to Section 766.24 of the Export Administration Regulations (“EAR”), the Bureau of Industry and Security (“BIS”), U.S. Department of Commerce, through its Office of Export Enforcement (“OEE”), has requested that I renew for 180 days an Order temporarily denying export privileges of Wen Enterprises (“WE”), 402 Wild Oak Drive, Manitowoc, WI 54220; Ning Wen (“Wen”), 402 Wild Oak Drive, Manitowoc, WI 54220; Hailin Lin (“Lin”), 402 Wild Oak Drive, Manitowoc, WI 54220; and Beijing Rich Linscience Electronics Company (“BRLE”), No. 2 Zhong Guan Cun South Avenue, Cyber Mode Room 1001, Haidian District, Beijing, China 100086 (hereinafter collectively referred to as the “Respondents”). Additionally, OEE has requested that I add Ruo Ling Wang, No. 2 Zhong Guan Cun South Avenue, Cyber Mode Room 1001, Haidian District, Beijing, China 100086, to the Order as a related party.

On January 31, 2005, I found that evidence presented by BIS demonstrated that the Respondents conspired to do acts that violated the EAR and did in fact commit numerous violations of the EAR by participating in the unlicensed export of national security controlled items to the People's Republic of China (“PRC”). I further found that such violations had been significant, deliberate and covert, and were likely to occur again, especially given the nature of the structure and relationships of the Respondents.

OEE has presented additional evidence that Lin, Wang, and a co-owner of BRLE have pled guilty to criminal violations of the EAA, IEEPA, and EAR for some of the transactions at issue herein. OEE has further presented evidence that Wang, as co-owner of BRLE, has returned to the PRC. I now find, based on the continued circumstances that led to the initial issuance of the order Denying Export Privileges on January 31, 2005, and on the additional evidence supplied by OEE, that the renewal of this TDO for a period of 180 days is necessary and in the public interest, to prevent an imminent violation of the EAR. Furthermore, I find that the addition of Wang as a related party to this Order is necessary to prevent the evasion of the Order. All parties to this TDO have been given notice of the request for renewal and, in the case of Wang, of the request for the addition of a related party.

It is therefore ordered:

First, that the Respondents, Wen Enterprises, 402 Wild Oak Drive, Manitowoc, WI 54220; Ning Wen, 402 Wild Oak Drive, Manitowoc, WI 54220; Hailin Lin, 402 Wild Oak Drive, Manitowoc, WI 54220; and Beijing Rich Linscience Electronics Company, No. 2 Zhong Guan Cun South Avenue, Cyber Mode Room 1001, Haidian District, Beijing, China 100086 (hereinafter collectively referred to as “Respondents”), and their successors and assigns and when acting on behalf of any of the Respondents, their officers, employees, agents or representatives, (“Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States.

D. Obtain from the Denied Person in the United States any item subject to the EAR with knowledge or reason to know that the item will be, or is intended to be, exported from the United States; or

E. Engage in any transaction to service any item subject to the EAR that has been or will be exported from the United States and which is owned, possessed or controlled by the Denied Person, or service any item, of whatever origin, that is owned, possessed or controlled by the Denied Person is such service involved the use of any item subject to the EAR that has been or will be exported from the United States. For purposes of this paragraph, servicing means installation, maintenance, repair, modification or testing.

Third, that, having been provided notice and opportunity for comment as provided in section 766.23 of the EAR, Ruo Ling Wang, No. 2 Zhong Guan Cun South Avenue, Cyber Mode Room 1001, Haidian District, Beijing, China 100086 (hereinafter, “Related Party”) shall be made subject to the provisions of this Order based on her relationship to BRLE by affiliation, ownership, control, or position of responsibility in the conduct of trade or related services.

Fourth, that after notice and opportunity for comment as provided in section 766.23 of the EAR, any other person, firm, corporation, or business organization related to any of the Respondents by affiliation, ownership, control, or position or responsibility in that conduct of trade or related services may also be made subject to the provisions of this Order.

Fifth, that this Order does not prohibit any export, reexport, or other transaction subject to the EAR where the only items involved that are subject to the EAR are the foreign-produced direct product of U.S.-origin technology.

In accordance with the provisions of section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of section 766.23(c) of the EAR, the Related Party may, at any time, make an appeal related to this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents and the Related Party, and shall be published in the Federal Register.

This Order is effective on July 31, 2005 and shall remain in effect for 180 days.

Entered this 26th day of July, 2005.
Wendy Wysong,
Acting Assistant Secretary of Commerce for Export Enforcement.

[FR Doc. 05-15140 Filed 7-29-05; 8:45 am]

BILLING CODE 3510-DT-M